DEPARTMENT OF TRANSPORTATION

Federal Aviation Administration

14 CFR Part 39

[Docket No. FAA-2016-6671; Directorate Identifier 2015-NM-164-AD; Amendment 39-18643; AD 2016-18-12]

RIN 2120-AA64

Airworthiness Directives; Airbus Airplanes

AGENCY: Federal Aviation Administration (FAA), Department of Transportation (DOT).

ACTION: Final rule.

SUMMARY: We are adopting a new airworthiness directive (AD) for certain Airbus Model A300 B4-203 and A300 B4-2C airplanes. This AD was prompted by cracks found on pylon side panels (upper section) at rib 8. This AD requires a detailed inspection for crack indications of the pylon side panels; a high frequency eddy current (HFEC) inspection to confirm any crack indications; and repair of any cracking, or modification of the pylon side panels, and repetitive inspections and repair if necessary. We are issuing this AD to detect and correct cracking of the pylon side panels. Such cracking could result in pylon structural failure and in-flight loss of an engine.

DATES: This AD is effective October 13, 2016.

The Director of the Federal Register approved the incorporation by reference of a certain publication listed in this AD as of October 13, 2016.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-6671.

Examining the AD Docket

You may examine the AD docket on the Internet at http://www.regulations.gov by searching for and locating Docket No. FAA-2016-6671; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM 116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to certain Airbus Model A300 B4-203 and A300 B4-2C airplanes. The NPRM published in the Federal Register on May 23, 2016 (81 FR 32256) (“the NPRM”). The NPRM was prompted by cracks found on pylon side panels (upper section) at rib 8. The NPRM proposed to require a detailed inspection for crack indications of the pylon side panels; an HFEC inspection to confirm any crack indications; and repair of any cracking, or modification of the pylon side panels, and repetitive inspections and repair if necessary. We are issuing this AD to detect and correct cracking of the pylon side panels. Such cracking could result in pylon structural failure and in-flight loss of an engine.

The European Aviation Safety Agency (EASA), which is the Technical Agent for the Member States of the European Union, has issued EASA Airworthiness Directive 2015-0201, dated October 7, 2015 (referred to after this as the Mandatory Continuing Airworthiness Information, or “the MCAI”), to correct an unsafe condition for certain Airbus Model A300 B4-203 and A300 B4-2C airplanes. The MCAI states:

Cracks were found on pylon side panels (upper section) at rib 8 on Airbus A300, A310 and A300-600 aeroplanes equipped with General Electric engines. Investigation of these findings indicated that this problem was likely to also affect aeroplanes of this type design with other engine installations.

This condition, if not detected and corrected, could lead to reduced strength of the pylon primary structure, possibly resulting in pylon structural failure and in-flight loss of an engine.

Prompted by these findings, EASA issued AD 2008-0181 [which corresponded to FAA AD 2010-06-04, Amendment 39-16228 (75 FR 11428, March 11, 2010; corrected May 4, 2010 (75 FR 23572))] to require repetitive detailed visual inspections and, depending on aeroplane configuration and/or findings, the accomplishment of applicable corrective action(s).

Since that [EASA] AD 2008-0181 was issued, a fleet survey and updated Fatigue and Damage Tolerance analyses have been performed in order to substantiate the second A300-600 Extended Service Goal (ESG2) exercise. The results of these analyses have shown that the risk for these aeroplanes is higher than initially determined and consequently, the threshold and interval were reduced to allow timely detection of these cracks and the accomplishment of applicable corrective action(s).

Consequently, EASA AD 2013-0136 was published to supersede EASA AD 2008-0181 and to require the inspections to be accomplished within reduced thresholds and intervals. Afterwards, [EASA] AD 2013-0136 was mistakenly revised [EASA AD 2013-0136R1 corresponds to FAA AD 2015-26-06, Amendment 39-18354 (81 FR 1870 January 14, 2016)] to reduce the Applicability, because it was considered at the time that aeroplanes on which Airbus mod 03599 was embodied, were not concerned by the requirements of EASA AD 2013-0136.

Since EASA AD 2013-0136R1 was issued, a more thorough analysis determined that post-mod 03599 aeroplanes could be affected by this unsafe condition after all.

[During] further deeper review, a list of nineteen A300 aeroplanes was identified as missing in the [EASA] AD 2013-0136R1 applicability (aeroplanes post-mod 03599).

For the reasons described above this AD retains the requirements of EASA AD 2013-0136R1 and mandates these requirements for the 19 missing A300 aeroplanes MSNs [manufacturer serial numbers].

You may examine the MCAI in the AD docket on the Internet at http://www.regulations.gov by searching for and locating Docket No. FAA-2016-6671.

Comments

We gave the public the opportunity to participate in developing this AD. We received no comments on the NPRM or on the determination of the cost to the public.

Conclusion

We reviewed the relevant data and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

Airbus has issued Service Bulletin A300-54-0075, Revision 04, dated May 26, 2015. The service information describes procedures for an inspection for crack indications of the pylons, a HFEC inspection to confirm cracking, modification of the pylon side panels, and repair if necessary.

Airbus has also issued Service Bulletin A300-54-0081, dated August 11, 1993. This service information describes installation of a doubler on the left pylon 1 and right pylon 2, on pylon side panels (upper section) at Rib 8.

This service information is reasonably available because the interested parties have access to it through their normal course of business or by the means identified in the ADDRESSES section.

Costs of Compliance

We estimate that this AD affects 4 airplanes of U.S. registry.

We estimate the following costs to comply with this AD:

Estimated Costs
Action | Labor cost | Cost per product | Cost on U.S. operators
Inspection of the pylon side panels | 30 work-hours × $85 per hour = $2,550 per inspection cycle | $2,550 per inspection cycle | $10,200 per inspection cycle.

We estimate the following costs to do any necessary repairs that would be required based on the results of the inspection. We have no way of determining the number of airplanes that might need this repair.

On-Condition Costs
Action | Labor cost | Parts cost | Cost per product
Crack repair | 56 work-hours × $85 per hour = $4,760 per repair | $3,910 per repair | $8,670 per repair.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-18-12 Airbus: Amendment 39-18643; Docket No. FAA-2016-6671; Directorate Identifier 2015-NM-164-AD.

(a) Effective Date

This AD is effective October 13, 2016.

(b) Affected ADs

None.

(c) Applicability

This AD applies to Airbus Model A300 B4-203 and A300 B4-2C airplanes, certificated in any category, manufacturer serial numbers 210, 212, 218, 220, 227, 234, 235, 236, 239, 247, 255, 256, 259, 261, 274, 277, 292, 299, and 302.

(d) Subject

Air Transport Association (ATA) of America Code 54, Nacelles/Pylons.

(e) Reason

This AD was prompted by cracks found on pylon side panels (upper section) at rib 8. We are issuing this AD to detect and correct cracking of the pylon side panels. Such cracking could result in pylon structural failure and in-flight loss of an engine.

(f) Compliance

Comply with this AD within the compliance times specified, unless already done.

(g) Detailed Inspection of Pylons and Corrections

At the applicable time specified in Airbus Service Bulletin A300-54-0075, Revision 04, dated May 26, 2015: Do a detailed inspection for crack indications of the pylons 1 and 2 side panels (upper section) at rib 8, in accordance with the Accomplishment Instructions of Airbus Service Bulletin A300-54-0075, Revision 04, dated May 26, 2015.

(h) Crack Confirmation

If any crack indication is found during the inspection required by paragraph (g) of this AD: Before further flight, do a high frequency eddy current (HFEC) inspection to confirm the crack, in accordance with the Accomplishment Instructions of Airbus Service Bulletin A300-54-0075, Revision 04, dated May 26, 2015.

(i) Follow-on Actions for No Crack/Indication

If the inspection required by paragraph (g) of this AD reveals no crack indication, or if the HFEC inspection specified by paragraph (h) of this AD confirms no crack: Do the actions specified in either paragraph (i)(1) or (i)(2) of this AD.

(1) Repeat the inspection required by paragraph (g) of this AD at the applicable time specified in Airbus Service Bulletin A300-54-0075, Revision 04, dated May 26, 2015.

(2) At the applicable time specified in Airbus Service Bulletin A300-54-0081, dated August 11, 1993: Modify the pylons, in accordance with Airbus Service Bulletin A300-54-0081, dated August 11, 1993. Thereafter, repeat the HFEC inspection specified in paragraph (h) of this AD at the applicable interval specified in Airbus Service Bulletin A300-54-0075, Revision 04, dated May 26, 2015, and repair any crack before further flight using a method approved by the Manager, International Branch, ANM-116, Transport Airplane Directorate, FAA; or the European Aviation Safety Agency (EASA); or Airbus's EASA Design Organization Approval (DOA).

(j) Follow-on Actions for Crack Findings

If any crack is confirmed during the inspection required by paragraph (h) of this AD, repair before further flight using a method approved by the Manager, International Branch, ANM-116, Transport Airplane Directorate, FAA; or EASA; or Airbus's EASA DOA.

(k) Credit for Previous Actions

This paragraph provides credit for actions required by paragraphs (g), (h), (i), and (j) of this AD, if those actions were performed before the effective date of this AD using the service information specified in paragraphs (k)(1) through (k)(4) of this AD.

(1) Airbus Service Bulletin A300-54-0075, dated August 11, 1993, which was incorporated by referenced in AD 2010-06-04, Amendment 39-16228 (75 FR 11428, March 11, 2010); corrected May 4, 2010 (75 FR 23572).

(2) Airbus Service Bulletin A300-54-0075, Revision 01, dated November 9, 2007.

(3) Airbus Service Bulletin A300-54-0075, Revision 02, dated June 26, 2008.

(4) Airbus Service Bulletin A300-54-0075, Revision 03, dated March 27, 2013.

(l) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(m) Related Information

(1) Refer to Mandatory Continuing Airworthiness Information (MCAI) EASA Airworthiness Directive 2015-0201, dated October 7, 2015, for related information. This MCAI may be found in the AD docket on the Internet at http://www.regulations.gov by searching for and locating Docket No. FAA-2016-6671.

(2) Service information identified in this AD that is not incorporated by reference is available at the addresses specified in paragraph (n)(3) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-54-0075, Revision 04, dated May 26, 2015.

(ii) Airbus Service Bulletin A300-54-0081, dated August 11, 1993.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 25, 2016.
John P. Piccola, Jr.,
Acting Manager, Transport Airplane Directorate, Aircraft Certification Service.

[FR Doc. 2016-21283 Filed 9-7-16; 8:45 am]

BILLING CODE 4910-13-P